OFFICE OF PERSONNEL MANAGEMENT

Excepted Service

AGENCY: Office of Personnel Management (OPM).

ACTION: Notice.

SUMMARY: This notice identifies Schedule A, B, and C appointing authorities applicable to a single agency that was established, modified, or revoked from October 1, 2023, to October 31, 2023.

FOR FURTHER INFORMATION CONTACT: Julia Alford, Agency Operations and Services, Executive Services and Workforce Development, Workforce Policy and Innovation, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but OPM publishes a notice of agency-specific authorities established or revoked each month in the Federal Register at https://www.govinfo.gov/. OPM also publishes an annual notice of the consolidated listing of all Schedule A, B, and C appointing authorities, current as of June 30, in the Federal Register.

Below are the Schedule A, B, and C appointing authorities applicable to a single agency that was established, modified, or revoked from October 1, 2023, to October 31, 2023.

Schedule A

No Schedule A Authorities to report during October 2023.

Schedule B

No Schedule B Authorities to report during October 2023.

Schedule C

The following Schedule C appointing authorities were approved during October 2023.

Agency name | Organization name | Position title | Authorization No. | Effective date
DEPARTMENT OF AGRICULTURE | Office of the Secretary | Advance Lead | DA240005 | 10/26/2023
UNITED STATES AGENCY FOR GLOBAL MEDIA | United States Agency for Global Media | Senior Advisor | IB230002 | 10/25/2023
DEPARTMENT OF COMMERCE | Office of the Deputy Secretary | Senior Advisor | DC240002 | 10/06/2023
| Office of Executive Secretariat | Special Assistant | DC240005 | 10/19/2023
COMMODITY FUTURES TRADING COMMISSION | Office of the Chairperson | Confidential Assistant | CT230004 | 10/17/2023
DEPARTMENT OF DEFENSE | Washington Headquarters Services | Special Assistant | DD240003 | 10/17/2023
DEPARTMENT OF THE NAVY | Office of the Assistant Secretary of Navy (Manpower and Reserve Affairs) | Special Assistant | DN230053 | 10/20/2023
DEPARTMENT OF ENERGY | Office of Public Affairs | Chief Speechwriter | DE230157 | 10/06/2023
| Office of the Secretary | Special Assistant to the White House Liaison | DE240005 | 10/18/2023
| National Nuclear Security Administration | Special Assistant | DE240006 | 10/18/2023
ENVIRONMENTAL PROTECTION AGENCY | Office of Public Affairs | Public Affairs Specialist | EP240006 | 10/19/2023
| Office of Public Engagement and Environmental Education | Public Engagement Specialist | EP240007 | 10/19/2023
FEDERAL COMMUNICATIONS COMMISSION | Office of Media Relations | Director, Office of Media Relations | FC230008 | 10/26/2023
GENERAL SERVICES ADMINISTRATION | Pacific Rim Region | Special Assistant to the Regional Administrator | GS240001 | 10/24/2023
| Southeast Sunbelt Region | Special Assistant to the Regional Administrator | GS240002 | 10/24/2023
| Rocky Mountain Region | Special Assistant to the Regional Administrator | GS240003 | 10/24/2023
DEPARTMENT OF HEALTH AND HUMAN SERVICES | Office of the Assistant Secretary for Public Affairs | Online Communications Manager | DH230271 | 10/04/2023
| Office of the Secretary | Senior Advisor | DH230275 | 10/04/2023
| Office of the Assistant Secretary for Health | Executive Director, Presidents Council on Sports, Fitness, and Nutrition | DH230276 | 10/04/2023
| Office of the Assistant Secretary for Legislation | Policy Advisor | DH240002 | 10/06/2023
DEPARTMENT OF HOMELAND SECURITY | Office of Strategy, Policy, and Plans | Policy Advisor | DM230364 | 10/16/2023
| United States Customs and Border Protection | Senior Advisor | DM240002 | 10/16/2023
| Office of Public Affairs | Special Assistant | DM240004 | 10/16/2023
DEPARTMENT OF HOUSING AND URBAN DEVELOPMENT | Office of Fair Housing and Equal Opportunity | Special Policy Advisor | DU240004 | 10/18/2023
|  | Special Advisor | DU230073 | 10/20/2023
DEPARTMENT OF THE INTERIOR | Office of the Assistant Secretary—Fish and Wildlife and Parks | Senior Advisor | DI230089 | 10/11/2023
| Secretary's Immediate Office | Scheduler Deputy Director, Office of Intergovernmental and External Affairs | DI230090 DI230097 | 10/11/2023 10/20/2023
|  | Advisor | DI240004 | 10/23/2023
| Office of the Assistant Secretary—Indian Affairs | Advisor | DI230091 | 10/11/2023
DEPARTMENT OF LABOR | Office of Public Affairs | Chief of Speechwriting | DL240002 | 10/10/2023
| Office of Congressional and Intergovernmental Affairs | Chief of Staff | DL240001 | 10/13/2023
NATIONAL ENDOWMENT FOR THE ARTS | National Endowment for the Arts | Speechwriter and Communications Specialist | NA240001 | 10/06/2023
OFFICE OF MANAGEMENT AND BUDGET | Office of Information and Regulatory Affairs | Counselor | BO230045 | 10/05/2023
UNITED STATES INTERNATIONAL DEVELOPMENT FINANCE CORPORATION | Overseas Private Investment Corporation | Special Assistant | PQ230017 | 10/12/2023
SECURITIES AND EXCHANGE COMMISSION | Office of Public Affairs | Supervisory Public Affairs Specialist | SE240001 | 10/04/2023
SMALL BUSINESS ADMINISTRATION | Office of the Administrator | Director of Policy Policy Advisor | SB230039 SB230040 | 10/04/2023 10/05/2023
|  | Deputy Director of Scheduling and Advance | SB240003 | 10/12/2023
|  | Special Assistant Special Advisor | SB240002 SB240001 | 10/20/2023 10/25/2023
DEPARTMENT OF STATE | Bureau of Legislative Affairs | Senate Director | DS240001 | 10/11/2023
| Office of Global Women's Issues | Congressional Advisor | DS240003 | 10/12/2023
DEPARTMENT OF TRANSPORTATION | Office of the Secretary | Director of Advance and Trip Operations | DT240002 | 10/18/2023
| Office of Public Affairs and Public Engagement | Media Advisor | DT240004 | 10/18/2023
DEPARTMENT OF THE TREASURY | Department of the Treasury | Special Assistant Digital Content Specialist | DY230159 DY240001 | 10/03/2023 10/03/2023
|  | Policy Advisor (2) | DY240006 DY230161 | 10/19/2023 10/26/2023
|  | Special Advisor Senior Advisor | DY230160 DY240010 | 10/23/2023 10/25/2023
| Office of the Under Secretary for International Affairs | Special Advisor | DY240003 | 10/11/2023

The following Schedule C appointing authorities were revoked during October 2023.

Agency name | Organization name | Position title | Request No. | Vacate date
DEPARTMENT OF COMMERCE | Minority Business Development Agency | Senior Advisor | DC230061 | 10/07/2023
| National Oceanic and Atmospheric Administration | Senior Advisor and Speechwriter | DC220058 | 10/13/2023
| Office of the Chief of Staff | Special Advisor | DC230101 | 10/28/2023
| Office of the Deputy Secretary | Special Assistant to the Deputy Secretary | DC230087 | 10/21/2023
DEPARTMENT OF EDUCATION | Office for Civil Rights | Confidential Assistant | DB220011 | 10/07/2023
| Office of Special Education and Rehabilitative Services | Special Assistant | DB210137 | 10/07/2023
| Office of the Deputy Secretary | Confidential Assistant | DB220087 | 10/08/2023
| Office of the Secretary | Director of Advance | DB210129 | 10/21/2023
|  | Special Advisor | DB230041 | 10/07/2023
|  | Confidential Assistant | DB230067 | 10/21/2023
DEPARTMENT OF ENERGY | Office of the Assistant Secretary for Fossil Energy | Special Assistant | DE220117 | 10/21/2023
| Office of Management | International Trip Lead | DE220140 | 10/21/2023
| Office of Policy | Special Assistant | DE220139 | 10/21/2023
| Office of Public Affairs | Deputy Press Secretary | DE220115 | 10/07/2023
| Office of Science | Chief of Staff | DE220019 | 10/21/2023
| Office of the Secretary | White House Liaison | DE220114 | 10/21/2023
|  | Special Assistant to the Deputy Chief of Staff | DE220131 | 10/21/2023
|  | Deputy White House Liaison | DE220142 | 10/21/2023
| Office of the Under Secretary of Energy | Special Advisor | DE230016 | 10/07/2023
DEPARTMENT OF HEALTH AND HUMAN SERVICES | Office of the Assistant Secretary for Financial Resources | Special Assistant | DH230171 | 10/27/2023
| Office of the Assistant Secretary for Legislation | Special Assistant | DH220121 | 10/07/2023
| Office of the Assistant Secretary for Public Affairs | Senior Advisor—Public Health Communications | DH230262 | 10/27/2023
|  | Online Communications Manager | DH230172 | 10/07/2023
| Office of the Secretary | Special Assistant | DH230060 | 10/07/2023
DEPARTMENT OF HOMELAND SECURITY | Federal Emergency Management Agency | Special Assistant | DM220186 | 10/08/2023
| Office of Public Affairs | Social Media Director | DM220240 | 10/08/2023
| Office of Strategy, Policy, and Plans | Special Assistant Special Advisor | DM220229 DM220263 | 10/22/2023 10/08/2023
| Office of the Secretary | Special Assistant to the Secretary | DM220291 | 10/22/2023
DEPARTMENT OF HOUSING AND URBAN DEVELOPMENT | Office of Fair Housing and Equal Opportunity | Policy Advisor | DU230003 | 10/21/2023
| Office of Field Policy and Management | Regional Administrator | DU220012 | 10/07/2023
| Office of Public and Indian Housing | Senior Advisor Special Assistant | DU220070 DU220036 | 10/07/2023 10/07/2023
DEPARTMENT OF LABOR | Office of Federal Contract Compliance Programs | Senior Advisor | DL230011 | 10/07/2023
| Office of the Assistant Secretary for Policy | Chief of Staff | DL220084 | 10/06/2023
DEPARTMENT OF THE INTERIOR | Office of the Assistant Secretary—Fish and Wildlife and Parks | Senior Advisor | DI220063 | 10/21/2023
| Office of the Assistant Secretary—Indian Affairs | Special Assistant | DI210138 | 10/21/2023
| Secretary's Immediate Office | Scheduler | DI220013 | 10/21/2023
DEPARTMENT OF THE TREASURY | Office of the Assistant Secretary (Public Affairs) | Press Assistant | DY230016 | 10/07/2023
| Office of the Under Secretary for Domestic Finance | Special Assistant for the Financial Stability Oversight Council | DY220150 | 10/21/2023
DEPARTMENT OF TRANSPORTATION | Office of Public Affairs | Director of Public Affairs | DT220081 | 10/05/2023
ENVIRONMENTAL PROTECTION AGENCY | Office of the Administrator | Special Assistant to the Executive Secretariat Deputy Director of Advance | EP230018 EP230063 | 10/07/2023 10/13/2023
GENERAL SERVICES ADMINISTRATION | Office of the General Counsel | Chief of Staff | GS230024 | 10/18/2023
NATIONAL AERONAUTICS AND SPACE ADMINISTRATION | Office of Communications | Press Secretary and Advisor | NN230013 | 10/29/2023
| Office of the Administrator | White House Liaison | NN220004 | 10/14/2023
OFFICE OF MANAGEMENT AND BUDGET | Office of Legislative Affairs | Deputy to the Associate Director | BO210023 | 10/11/2023
OFFICE OF SCIENCE AND TECHNOLOGY POLICY | Office of Science and Technology Policy | Special Assistant | TS210003 | 10/06/2023
OFFICE OF THE SECRETARY OF DEFENSE | Office of the Assistant Secretary of Defense (Indo-Pacific Security Affairs) | Special Assistant | DD220182 | 10/21/2023
| Office of the Assistant Secretary of Defense (Legislative Affairs) | Special Assistant | DD220173 | 10/21/2023
| Office of the Assistant to the Secretary of Defense (Public Affairs) | Speechwriter Director of Digital Media | DD220097 DD230127 | 10/07/2023 10/01/2023
| Office of the Secretary of Defense | Senior Protocol Officer | DD230152 | 10/01/2023
| Office of the Under Secretary of Defense (Acquisition and Sustainment) | Special Assistant | DD220077 | 10/21/2023
| Office of the Under Secretary of Defense (Research and Engineering) | Special Assistant | DD230104 | 10/21/2023
SECURITIES AND EXCHANGE COMMISSION | Office of Public Affairs | Senior Advisor to the Chair (Director of Speechwriting) | SE230004 | 10/08/2023
SMALL BUSINESS ADMINISTRATION | Office of the Administrator | Director of Policy Confidential Assistant Senior Advisor | SB220037 SB220031 SB220033 | 10/07/2023 10/21/2023 10/07/2023
UNITED STATES INTERNATIONAL DEVELOPMENT FINANCE CORPORATION | Overseas Private Investment Corporation | Deputy Chief of Staff | PQ210002 | 10/21/2023
|  | Special Assistant to the Chief Executive Officer and Front Office Manager | PQ210006 | 10/20/2023
|  | Special Assistant | PQ220002 | 10/21/2023
UNITED STATES INTERNATIONAL TRADE COMMISSION | Office of Commissioner Schmidtlein | Staff Assistant (Legal) | TC210006 | 10/21/2023
| Office of Commissioner Stayin | Staff Assistant (Legal) (2) | TC120011 TC200001 | 10/21/2023 10/21/2023
| Office of the Chairman | Confidential Assistant | TC190007 | 10/03/2023

Authority: 5 U.S.C. 3301 and 3302; E.O. 10577, 3 CFR, 1954-1958 Comp., p. 218.

Office of Personnel Management.
Kayyonne Marston,
Federal Register Liaison.

[FR Doc. 2024-11365 Filed 5-22-24; 8:45 am]

BILLING CODE 6325-39-P